DEPARTMENT OF TRANSPORTATION

Federal Aviation Administration

14 CFR Part 71

[Docket No. FAA-2022-0692; Airspace Docket No. 22-ASW-11]

RIN 2120-AA66

Proposed Amendment of the Class E Airspace; Corsicana, TX: Withdrawal

AGENCY: Federal Aviation Administration (FAA), DOT.

ACTION: Notice of proposed rulemaking (NPRM), withdrawal.

SUMMARY: This action withdraws the NPRM published in the Federal Register on May 27, 2022, proposing to amend the Class E airspace at Corsicana, TX. The FAA has determined that withdrawal of the NPRM is warranted as the action has already been completed by a final rule published in the Federal Register on February 25, 2022.

DATES: As of June 13, 2022, the proposed rule published in the Federal Register on May 27, 2022 (87 FR 32104) is withdrawn.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

An NPRM was published in the Federal Register on May 27, 2022 (87 FR 32104) Docket No. FAA-2022-0692 to amend 14 CFR part 71 by amending the Class E airspace extending upward from 700 feet above the surface at C. David Campbell Field-Corsicana Municipal Airport, Corsicana, TX. Subsequent to publication, the FAA discovered that the proposed action was completed by a final rule, FR Doc. 2022-03995, published in the Federal Register on February 25, 2022 (87 FR 10714). Therefore, the FAA is withdrawing the NPRM.

List of Subjects in 14 CFR Part 71

Airspace, Incorporation by reference, Navigation (air).

The Withdrawal

Accordingly, the notice of proposed rulemaking, Docket No. FAA-2022-0692, Airspace Docket No. 22-ASW-11, published in the Federal Register on May 27, 2022 (87 FR 32104), is withdrawn.

Authority: 49 U.S.C. 106(f), 106(g); 40103, 40113, 40120; E.O. 10854; 24 FR 9565, 3 CFR, 1959-1963 Comp., p. 389.

Issued in Fort Worth, TX, on June 7, 2022.
Martin A. Skinner,
Acting Manager, Operations Support Group, ATO Central Service Center.

[FR Doc. 2022-12637 Filed 6-10-22; 8:45 am]

BILLING CODE 4910-13-P